DEPARTMENT OF COMMERCE

National Oceanic and Atmospheric Administration

[I.D. 101502A]

New England Fishery Management Council; Public Meeting

AGENCY: National Marine Fisheries Service (NMFS), National Oceanic and Atmospheric Administration (NOAA), Commerce.

ACTION: Public meeting.

SUMMARY: The New England Fishery Management Council (Council) will hold a 3-day Council meeting from November 5-7, 2002, to consider actions affecting New England fisheries in the U.S. exclusive economic zone (EEZ).

DATES: The meeting will be held on Tuesday, Wednesday, and Thursday, November 5, 6, and 7, 2002. The meeting will begin at 9 a.m. on Tuesday and at 8:30 a.m. on Wednesday and Thursday.

ADDRESSES: The meeting will be held at the Gloucester High School (Field House), 32 Leslie O. Johnson Road, Gloucester, MA 01930; telephone (978) 281-9870. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, November 5, 2002

Following introductions, the Council will consider and approve a list of management actions for 2003. A report from the Whiting Committee will follow, during which the committee will recommend final approval of Framework 37 to Northeast Multispecies Fishery Management Plan (FMP), an action that will affect small mesh multispecies, a group that includes whiting, red hake and offshore hake. The framework includes options to eliminate the year 4 default measures now specified in the FMP, increase opportunities to participate in the Cultivator Shoal fishery and adjust other measures in the northern and southern stock areas. The Council also will consider approving a new control date to determine future participation in the small mesh multispecies fishery. The Monkfish Committee report will follow beginning with a presentation of the Stock Assessment and Fishery Evaluation (SAFE) Report for the 2001 fishing year. The Council will then consider final approval of Framework Adjustment 2 to the Monkfish FMP. Measures would mirror those contained in the NMFS 2002 emergency rule, including a revision to the overfishing definition reference points and control rule, and adjustments to the days-at-sea allocations and/or trip limits to achieve monkfish targets for fishing year 2003.

The Council may also consider removing the default provision from the FMP, measures that would otherwise eliminate the directed monkfish fishery, and extending the effectiveness of Framework Adjustment 2 beyond the 2003 fishing year, until modified by the next plan amendment. The Skate Committee will request final approval of measures for inclusion in the FMP for the Northeast Skate Complex. These include, but are not limited to federal permits and reporting requirements, a prohibition on the possession, landing or sale of some skate species, and possession limits for the skate wing fishery. Before adjournment for the day, the Dogfish Committee will ask the Council to approve the 2003-2004 specifications, which may include a quota and trip limits. They will also review and ask for approval of a list of issues to be considered for inclusion in Amendment 1 to the Spiny Dogfish FMP.

Wednesday and Thursday, November 6-7, 2002

The Council meeting will re-convene on Wednesday to address issues related to groundfish management, beginning with a NMFS presentation on the results of a recent meeting entitled Workshop on Trawl Effects on Fishing Gear Performance. A report from the Groundfish Assessment Review meeting will follow. Once these briefings have occurred, the Council will receive an enforcement analysis for the draft Amendment 13 to the Northeast Multispecies FMP. The last agenda item will concern approval of the Amendment 13 draft measures, including a Draft Supplemental Environmental Impact Statement. The Council meeting will adjourn on Thursday once any other outstanding business has been addressed.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

The Council will consider public comments at a minimum of two Council meetings before making recommendations to the National Marine Fisheries Service Regional Administrator on any framework adjustment to a fishery management plan. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Authority: 16 U.S.C. 1801 et seq.

Dated: October 18, 2002.
Bruce C. Morehead,
Acting Director, Office of Sustainable Fisheries, National Marine Fisheries Service.

[FR Doc. 02-27163 Filed 10-23-02; 8:45 am]

BILLING CODE 3510-22-S